DEPARTMENT OF TRANSPORTATION

Federal Aviation Administration

Public Notice for Waiver of Aeronautical Land-Use Assurance Viroqua Municipal Airport; Viroqua, WI

AGENCY: Federal Aviation Administration, DOT.

ACTION: Notice of intent of waiver with respect to land.

SUMMARY: The Federal Aviation Administration (FAA) is considering a proposal to authorize the release of 0.93 acres of the airport property at the Viroqua Municipal Airport, Viroqua, WI. The Wisconsin Department of Transportation (WisDOT) is seeking airport property for right of way along U.S. Highway 14/61. The FAA issued a categorical exclusion on December 23, 2010.

The acreage being released is not needed for aeronautical use as currently identified on the Airport Layout Plan. The acreage comprising this parcel was originally acquired with local funds by the City of Viroqua. The airport will receive the appraised fair market value of $495,909 for the land. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before February 22, 2011.

ADDRESSES: Ms. Sandra E. DePottey, Program Manager, Federal Aviation Administration, Airports District Office, 6020 28th Avenue South, Room 102, Minneapolis, MN 55450-2706. Telephone Number (612) 713-4350/FAX Number (612) 713-4364. Documents reflecting this FAA action may be reviewed at this same location or at the Wisconsin Department of Transportation, 4802 Sheboygan Ave., Room 701, Madison, WI 53707.

FOR FURTHER INFORMATION CONTACT: Ms. Sandra E. DePottey, Program Manager, Federal Aviation Administration, Airports District Office, 6020 28th Avenue South, Room 102, Minneapolis, MN 55450-2706. Telephone Number (612) 713-4350/FAX Number (612) 713-4364. Documents reflecting this FAA action may be reviewed at this same location or at the Wisconsin Department of Transportation, 4802 Sheboygan Ave., Room 701, Madison, WI 53707.

SUPPLEMENTARY INFORMATION: Following is a description of the subject airport property to be released at Viroqua Municipal Airport in Viroqua, Wisconsin and described as follows:

A parcel of land located in part of the northeast quarter of the Northeast Quarter of Section 30 in the City of Viroqua, all in Township 13 North, Range 4 West, Vernon County WI.

Said parcel subject to all easements, restrictions, and reservations of record.

Issued in Minneapolis, MN on December 23, 2010.
Steve Obenauer,
Manager, Minneapolis Airports District Office, FAA, Great Lakes Region.

[FR Doc. 2011-1072 Filed 1-19-11; 8:45 am]

BILLING CODE 4910-13-P